NATIONAL AERONAUTICS AND SPACE ADMINISTRATION

[Notice (01-125)]

NASA Advisory Council, Biological and Physical Research Advisory Committee Meeting

AGENCY: National Aeronautics and Space Administration.

ACTION: Notice of Meeting.

SUMMARY: In accordance with the Federal Advisory Committee Act, Pub. L. 92-463, as amended, the National Aeronautics and Space Administration announces a meeting of the NASA Advisory Council, Biological and Physical Research Advisory Committee.

DATES: Thursday, October 25, 2001, 10 a.m. to 5 p.m.; and Friday, October 26, 2001, 8 a.m. to 12 noon.

ADDRESSES: American Management Association, 440 First St.,NW., Washington, DC 20001.

FOR FURTHER INFORMATION CONTACT: Dr. Bradley Carpenter,Code UG, National Aeronautics and Space Administration,Washington, DC 20546, 202/358-0826.

SUPPLEMENTARY INFORMATION: The meeting will be open to the public up to the seating capacity of the room. The agenda for the meeting is as follows:

—Action Status

—Program Overview

—Division Reports

—Status of International Space Station

—Preparation of Committee Findings and Recommendations

—Review of Committee Findings and Recommendations

It is imperative that the meeting be held on this date to accommodate the scheduling priorities of the key participants. Visitors will be requested to sign a visitor's register.

Beth M. McCormick,
Advisory Committee Management Officer,National Aeronautics and Space Administration.

[FR Doc. 01-26054 Filed 10-16-01; 8:45 am]

BILLING CODE 7510-01-P